DEPARTMENT OF STATE

[Public Notice 8119]

30-Day Notice of Proposed Information Collection: Directorate of Defense Trade Controls Information Collection: “Request for Commodity Jurisdiction (CJ) Determination”

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this notice is to allow 30 days for public comment.

DATES: Submit comments to the Office of Management and Budget (OMB) up to January 14, 2013.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: Direct requests for additional information regarding the collections listed in this notice, including requests for copies of the proposed collection instrument and supporting documents, to Nicholas Memos, PM/DDTC, SA-1, 12th Floor, Directorate of Defense Trade Controls, Bureau of Political-Military Affairs, U.S. Department of State, Washington, DC 20522-0112, who may be reached via phone at (202) 663-2829, or via email at memosni@state.gov.

SUPPLEMENTARY INFORMATION:

• Title of Information Collection: Request for Commodity Jurisdiction (CJ) Determination

• OMB Control Number: 1405-0163

• Type of Request: Extension of Currently Approved Collection

• Originating Office: Bureau of Political-Military Affairs, Directorate of Defense Trade Controls, PM/DDTC

• Form Number: DS-4076

• Respondents: Business and Nonprofit Organizations

• Estimated Number of Respondents: 1,260

• Estimated Number of Responses: 1,260

• Average Hours per Response: 10 hours

• Total Estimated Burden: 12,600 hours

• Frequency: On Occasion

• Obligation to Respond: Voluntary

We are soliciting public comments to permit the Department to:

• Evaluate whether the proposed collection of information is necessary for the proper functions of the Department.

• Evaluate the accuracy of our estimate of the burden of the proposed collection, including the validity of the methodology and assumptions used.

• Enhance the quality, utility, and clarity of the information to be collected.

• Minimize the reporting burden on those who are to respond, including the use of automated collection techniques or other forms of technology.

Please note that comments submitted in response to this Notice are public record. Before including any detailed personal information, you should be aware that your comments as submitted, including your personal information, will be available for public review.

Abstract of proposed collection: The export, temporary import, temporary export and brokering of defense articles, defense services and related technical data are licensed by the Directorate of Defense Trade Controls in accordance with the International Traffic in Arms Regulations (22 CFR parts 120-130) and Section 38 of the Arms Export Control Act. Any person who engages in the business of manufacturing or exporting defense articles, defense services, and related technical data, or the brokering thereof, must register with the Department of State.

The information submitted pursuant to this collection will be used to evaluate whether a particular defense article or defense service is covered by the U.S. Munitions List, and therefore is subject to export licensing jurisdiction of the Department of State. This collection may also be used to request a change in U.S. Munitions List category designation, request the removal a defense article from the U.S. Munitions List, or request the reconsideration of a previous commodity jurisdiction determination.

Methodology: These forms/information collections are to be sent electronically to the Directorate of Defense Trade Controls via the Directorate of Defense Trade Controls Web site.

Dated: December 6, 2012.
Robert S. Kovac,
Managing Director of Defense Trade Controls, Bureau of Political-Military Affairs, U.S. Department of State.

[FR Doc. 2012-30233 Filed 12-13-12; 8:45 am]

BILLING CODE 4710-25-P